FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants:

Fordpointer Shipping (N.Y.) Inc., 41-40 Union Street, #7H, Flushing, NY 11355, Officers: Yvonne Kao, Vice President, (Qualifying Individual), Tommy Yu, President.

Trans World Logistics LLC, 9969 SW 118 Ct., Miami, FL 33186, Officer: James Conroy, President, (Qualifying Individual).

LCL Shipping USA, Inc., 1951 W. 153rd Street, Gardena, CA 90249, Officers: Tim Mao, CEO, (Qualifying Individual), Le Thi Thu Ha, Director.

Grand Warehousing and Shipping, Inc., 2315 NW. 107th Avenue, #B17, Doral, FL 33172, Officers: Lorenzo Lorenzo, Vice President, (Qualifying Individual), Nily Cohen, President.

NVS International Inc., 1600 West Blancke Street, Linden, NJ 07036, Officers: Natalya Soltys, President, (Qualifying Individual), Vyacheslav Soltys, Vice President.

Non-Vessel—Operating Common Carrier and Ocean Freight Forwarder Transportation Intermediary Applicants:

BC Global Logistics Inc., 1210 W. Euclid Avenue, Arlington Heights, IL 60005, Officer: Wantanee Jackie Benkler, President, (Qualifying Individual).

Vanguard International, Inc., 30039 Ahern Avenue, Union City, CA 94587, Officers: Elaine Chang, Director, (Qualifying Individual), Honkai Chang, President.

Montebello Management Company, LLC dba Aero Logistics; Aero Logistics of the United States; BFG Global, 345 Swift Avenue, So. San Francisco, CA 94080, Officers: Michael Lee Smith, Vice President, (Qualifying Individual), John Fowler, CEO.

Ocean Freight Forwarder—Ocean Transportation Intermediary Applicants:

EOM Shipping, 1200 Central Avenue, Suite 4, Union City NJ 07087, Officer: Shay Harpaz, President, (Qualifying Individual).

Scanwell Logistics (ATL) Inc., 4799 Aviation Pkwy, Suite H, College Park, GA 30349, Officers: Dennis Choy, President, (Qualifying Individual), Adam Hassan, Chairman.

Global Logistical Connections, 8 Third Place, Long Beach, CA 90802, Officer: Derek Scarbrough, President, (Qualifying Individual).

Dated: April 14, 2006.
Karen V. Gregory,
Assistant Secretary.

[FR Doc. E6-5863 Filed 4-18-06; 8:45 am]

BILLING CODE 6730-01-P